DEPARTMENT OF THE INTERIOR

Bureau of Reclamation

[RR83550000, 223R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

New contract actions:

35. Slagle, Gayle and Joyce; Canyon Ferry Unit, P-SMBP; Montana: Consideration for a new long-term water service contract for irrigation purposes.

36. Greenfields ID, Sun River Project, Montana: Consideration of a Preliminary Lease of Power Privilege.

37. Colorado, Kansas, Montana, Nebraska, North Dakota, Oklahoma, South Dakota, Texas, and Wyoming: Potential repayment contracts pursuant to Section 40901 of the Infrastructure Investment and Jobs Act of November 15, 2021 (Pub. L. 117-58).

Modified contract action:

30. H&RW ID; Frenchman-Cambridge Division, P-SMBP; Nebraska: Consideration of a water service contract.

Completed contract actions:

12. Arkansas Valley Conduit, Fryingpan-Arkansas Project, Colorado: Consideration of a repayment contract for the Arkansas Valley Conduit and signing a contract to use infrastructure owned by the Pueblo Board of Water Works. Contract executed on March 18, 2022.

13. Southeastern Colorado Water Conservancy District, Fryingpan-Arkansas Project, Colorado: Consideration for conversion of long-term water service contract No. 5-07-70-W0086. Contract executed on December 28, 2021.

14. Pueblo Board of Water Works, Fryingpan-Arkansas Project, Colorado: Consideration for renewal of contract No. 00XX6C0049. Contract executed on March 18, 2022.

17. Triview Metropolitan District; Pueblo Reservoir, Fryingpan-Arkansas Project; Colorado: Consideration of a 40-year contract for excess capacity. Contract executed on December 29, 2021.

22. Laura Vukasin and Jeff Ivers; Canyon Ferry Unit, P-SMBP; Montana: Consideration of a new long-term contract for an irrigation water supply. Contract executed on February 16, 2022.

34. Grey Reef Ranch, Kendrick Project, Wyoming: Consideration for renewal of excess capacity contract No. 14XX660043. Contract executed on February 16, 2022.

Upper Colorado Basin—Interior Region 7: Bureau of Reclamation, 125 South State Street, Room 8100, Salt Lake City, Utah 84138-1102, telephone 801-524-3864.

New contract actions:

31. Public Service Company of New Mexico, Navajo-Gallup Water Supply Project, New Mexico: Reclamation continues negotiations for a carriage contract with Public Service Company of New Mexico pursuant to Public Law 111-11, Section 10602(h) which provides conveyance and storage of non-project water through Project facilities and sets forth payment of OM&R costs assignable to the Company for the use of Project facilities.

32. Enchant Energy Corporation, Navajo-Gallup Water Supply Project, New Mexico (Project): Reclamation continues negotiations for a carriage contract with Enchant Energy Corporation pursuant to Public Law 111-11, Section 10602(h) which provides conveyance and storage of non-project water through Project facilities and sets forth payment of OM&R costs assignable to Enchant Energy for the use of Project facilities.

33. Albuquerque Bernalillo County Water Utility Authority, San Juan-Chama Project, New Mexico: Reclamation has held technical meetings with the Water Authority regarding retention of prior and paramount water in Abiquiu Reservoir on behalf of the six Middle Rio Grande Pueblos. El Vado Reservoir, which normally retains the Pueblo's prior and paramount water, is under construction and will likely not be ready to store water again until 2024.

34. Navajo Tribal Utility Authority, Navajo-Gallup Water Supply Project, New Mexico: Reclamation is entering negotiations with the Navajo Tribal Utility Authority to provide payment for OM&R costs for use of Federal facilities pursuant to Public Law 111-11, Section 10606.

Completed contract actions:

22. North Fork Water Conservancy District and Ragged Mountain Water Users Association, Paonia Project, Colorado: The District has requested a replacement 5-yr contract for the existing water service contract (No.16-WC-40-646) for 2,000 acre-feet of water which expired on December 31, 2021. Contract executed on February 24, 2022.

34. Navajo Tribal Utility Authority, Navajo-Gallup Water Supply Project, New Mexico: Reclamation is entering negotiations with the Navajo Tribal Utility Authority to provide payment for OM&R costs for use of Federal facilities pursuant to Public Law 111-11, Section 10606. Contract executed on March 3, 2021.

Lower Colorado Basin—Interior Region 8: Bureau of Reclamation, P.O. Box 61470 (Nevada Highway and Park Street), Boulder City, Nevada 89006-1470, telephone 702-293-8192.

Completed contract actions:

15. Ak-Chin Indian Community and Del Webb Corporation, CAP, Arizona: Execute a First Amendment to (Restated) Option and Lease among the Ak-Chin Indian Community, the Del Webb Corporation, and United States of America. Contract executed March 8, 2022.

23. Marble Canyon Company, Inc. (Marble Canyon) and TV Marble Canyon AZ, LLC (TV Marble Canyon), BCP, Arizona: Enter into a proposed assignment of contract No. 5-07-30-W0322 for 70 acre-feet per year of Arizona fourth-priority Colorado River water and an unspecified amount of Arizona fifth- and/or sixth-priority Colorado River water during periods when the Secretary of the Interior determines that surplus water or unused apportionment entitlement is available, from Marble Canyon Company, Inc. to TV Marble Canyon AZ, LLC and enter into Colorado River water delivery contract No. 20-XX-30-W0689 with TV Marble Canyon AZ, LLC for 70 acre-feet per year of Arizona fourth-priority Colorado River water and an unspecified amount of fifth- and/or sixth-priority Colorado River water during periods when the Secretary of the Interior determines that surplus water or unused apportionment entitlement is available. Contract executed February 11, 2022.

Columbia-Pacific Northwest—Interior Region 9: Bureau of Reclamation, 1150 North Curtis Road, Suite 100, Boise, Idaho 83706-1234, telephone 208-378-5344.

New contract action:

21. Storage Division, Yakima Project, Washington: Contracts with twenty-three water user entities for the repayment of reimbursable shares of the costs of the SOD program modification for Kachess Dam.

California-Great Basin—Interior Region 10: Bureau of Reclamation, 2800 Cottage Way, Sacramento, California 95825-1898, telephone 916-978-5250.

New contract action:

44. Shasta County Water Agency, CVP, California: Proposed partial assignment of 400 acre-feet of the Shasta County Water Agency's CVP water supply to the Shasta Community Services District for M&I use.

Discontinued contract action:

3. Contractors from the Delta Division, Cross Valley Canal, and West San Joaquin Division; CVP; California: Renewal of 10 interim and long-term water service contracts; water quantities for these contracts total in excess of 148,000 acre-feet. These contract actions will be accomplished through long-term renewal contracts pursuant to Public Law 102-575. Prior to completion of negotiation of long-term renewal contracts, existing interim renewal water service contracts may be renewed through successive interim renewal of contracts.

Completed contract actions:

14. Orland Unit Water User's Association, Orland Project, California: Repayment contract for the SOD costs assigned to the irrigation of Stony Gorge Dam. Contract executed January 27, 2022.

18. State of California, Department of Water Resources; Cross Valley Contractors; CVP; California: Three-party conveyance agreement for conveyance of Cross Valley Contractors' CVP water supplies available pursuant to long-term water service contracts. Eight contracts executed.

23. City of Redding, CVP, California: Proposed partial assignment of 30 acre-feet of the City of Redding's CVP water supply to the City of Shasta Lake for M&I use. Contract executed August 9, 2021.

37. Water user entities responsible for repayment of reimbursable project construction costs in California, Nevada, and Oregon: Contracts for conversion or prepayment executed pursuant to the WIIN Act. Contracts executed December 16, 2021.

39. Truckee-Carson ID, Newlands Project, Nevada: Negotiation and execution of an OM&R transfer agreement. Contract executed August 25, 2021.

40. Tehama-Colusa Canal Authority, CVP, California: Renewal of OM&R contract. Contract executed September 21, 2021.

42. Shasta County Water Agency, CVP, California: Proposed partial assignment of 50 acre-feet of the Shasta County Water Agency's CVP water supply to the City of Shasta Lake for M&I use. Contract executed August 9, 2021.

43. Friant Water Authority, CVP, California: Negotiation and execution of a repayment contract for Friant Kern Canal Middle Reach Capacity Correction Project. Contract executed September 23, 2021.

Lisa A. Vehmas,
Acting Director, Policy and Programs.

[FR Doc. 2022-10913 Filed 5-19-22; 8:45 am]

BILLING CODE 4332-90-P